DEPARTMENT OF DEFENSE

Office of the Secretary

[Docket ID: DoD-2023-OS-0084]

Proposed Collection; Comment Request

AGENCY: Office of the Under Secretary of Defense for Acquisition and Sustainment (USD(A&S)), Department of Defense (DoD).

ACTION: 60-Day information collection notice.

SUMMARY: In compliance with the Paperwork Reduction Act of 1995, the Office of Local Defense Community Cooperation announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 21, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of Local Defense Community Cooperation, 2231 Crystal Drive, Arlington, VA 22202, ATTN: Ms. Michelle Volkema, or call 703-697-2176.

SUPPLEMENTARY INFORMATION:

Title; Associated Form; and OMB Number: Community Noise Mitigation Program Grant Proposals; OMB Control Number 0704-CNMP.

Needs and Uses: Section 8120 of the Consolidated Appropriations Act, 2022 (Pub. L. 117-103) provided $75 million to the Office of Local Defense Community Cooperation (OLDCC) of the Department of Defense to “make grants to communities impacted by military aviation noise for the purpose of installing noise mitigating insulation at covered facilities.” These funds expire if they are not obligated prior to September 30, 2025.

To implement this congressional direction, OLDCC may award grants to local governments under the competitive Community Noise Mitigation Program (CNMP) for the purpose of reducing the impact of fixed wing military aviation noise on “covered” facilities. Covered facilities include hospitals, daycare facilities, schools, facilities serving senior citizens, and private residences. Covered facilities that are considered potentially eligible are located either within one (1) mile of a military installation boundary or within an area experiencing day-night average sound level of 65 decibels or greater due to military fixed-wing aviation noise. Information collection from the public is necessary to facilitate the awarding of grants under CNMP. Respondents will be states, territories, counties, municipalities, other political subdivisions of a state, special purpose units of a state or local government, other instrumentalities of a state or local government, and tribal nations supporting a military installation. The collection instrument is a grant proposal package prepared in accordance with the CNMP Notice of Funding Opportunity Announcement posted on the Grants.gov website (https://www.grants.gov/web/grants/view-opportunity.html?oppId=349858). The Notice of Funding Opportunity Forecast details the elements that will be required for a proposal to be considered complete.

Affected Public: State, local, or Tribal government.

Annual Burden Hours: 2,000.

Number of Respondents: 50.

Responses per Respondent: 1.

Annual Responses: 50.

Average Burden per Response: 40 hours.

Frequency: Once.

Dated: September 18, 2023.
Aaron T. Siegel,
Alternate OSD Federal Register Liaison Officer, Department of Defense.

[FR Doc. 2023-20599 Filed 9-21-23; 8:45 am]

BILLING CODE 5001-06-P